DEPARTMENT OF HOUSING AND URBAN DEVELOPMENT

[Docket No. FR-7092-N-02]

30-Day Notice of Proposed Information Collection; Record of Employee Interview; OMB Control No.: 2501-0009

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: February 18, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410.

FOR FURTHER INFORMATION CONTACT: Anna Guido, Reports Management Officer, REE, Department of Housing and Urban Development, 451 7th Street, SW, Washington, DC 20410; email Anna.P.Guido@hud.gov or telephone (202) 402-3400. This is not a toll-free number. HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on September 11, 2024 at 89 FR 73705.

A. Overview of Information Collection

Title of Information Collection: Record of Employee Interview.

MB Approval Number: 2501-0009.

Type of Request: Reinstatement of a currently approved collection.

Form Number: HUD 22019.

Description of the need for the information and proposed use:

All federal agencies administering programs subject to Davis-Bacon wage provisions are required to enforce Federal Wage and reporting provisions in accordance with Department of Labor (DOL) regulations (29 CFR part 5, Section 5.6 paragraphs (1)(2) and (a)(3), respectively).

HUD, state, and local agencies administering HUD-assisted programs must enforce Federal Wage and reporting requirements on covered HUD-assisted construction and maintenance work. Enforcement activities include conducting interviews with laborers and mechanics employed on HUD-assisted projected concerning their employment on covered projects. The HUD-11 and HUD-11-SP (Spanish version) are used to assist in the conducting of on-site interviews and to record the information provided by the respondent. The forms may be supplemented with additional pages, as needed. Responses and the provision of supplemental information are voluntary on the part of respondents. (See HUD Handbook 1344.1 REV-3 (Federal Labor Standards Requirements in Housing and Urban Development Programs), Sections 5-9, 5-10 (January 2023).

Information collection | Number of respondents | Frequency of response | Responses per annum | Total burden hours per response | Annual burden hours | Hourly cost per response | Total cost
HUD-11/11SP Respondent's Time | 37,944 | 1 | 37,944.00 | 0.25 | 9,486.00 | $23.69 * | $224,723.34

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. Chapter 35.

Anna Guido,
Department Reports Management Officer, Office of Policy Development and Research, Chief Data Officer.

[FR Doc. 2025-01139 Filed 1-16-25; 8:45 am]

BILLING CODE 4210-67-P